DEPARTMENT OF VETERANS AFFAIRS

Advisory Committee on the Readjustment of Veterans; Notice of Meeting

The Department of Veterans Affairs (VA) gives notice under Public Law 92-463 (Federal Advisory Committee Act) that a meeting of the Advisory Committee on the Readjustment of Veterans will be held Wednesday, Thursday and Friday, May 6-8, 2015. The meeting on Wednesday and Friday will be conducted at the Department of Veterans Affairs (VA) Central Office, 810 Vermont Avenue NW., Washington, DC 20420, in Room 630. The agenda for these two days will begin at 8 a.m. and end at 4:30 p.m. The meeting on both days is open to the public.

The meeting on Thursday will be conducted at two VA Vet Centers located in Silver Spring and Baltimore, MD. The latter meetings will include interviews with Veteran consumers and will be closed to the public.

The purpose of the Committee is to review the post-war readjustment needs of combat Veterans and to evaluate the availability and effectiveness of VA programs to meet Veterans' needs.

On May 6, the Committee will be briefed on current directions and priorities for serving the Nation's war Veterans. The Committee will also be briefed by the Principal Deputy Under Secretary for Health on new directions of care in Veterans Health Administration (VHA) and the coordination of VA healthcare with readjustment counseling.

The May 6 agenda will also include briefings on the current activities of the Readjustment Counseling Service (RCS) Vet Center program to include the full scope of outreach and readjustment counseling services provided to combat Veterans and families. The briefing will focus on the coordination of Vet Center services with VHA health care, mental health, and social work services. The Committee will also receive briefings from VHA mental health program officials focusing on the key role of mental health services for the psychological, social, and economic readjustment of combat Veterans.

On May 7, Committee members will conduct onsite visits at two Vet Centers to meet with groups of Veteran consumers and with VHA service providers from the Vet Centers and the support VA medical facilities.

On May 8 the Committee will receive briefings from additional VHA program officials representing key programs of specific value for the post-war readjustment of Veterans and family members. The agenda for May 8 will conclude with a Committee strategic planning session for developing the observations and conclusions for the annual Committee Report.

No time will be allocated at this meeting for receiving oral presentations from the public. However, members of the public may direct written questions or submit prepared statements for review by the Committee before the meeting to Mr. Charles M. Flora, M.S.W., Designated Federal Officer, Readjustment Counseling Service, Department of Veterans Affairs, 810 Vermont Avenue NW., Washington, DC 20420. Because the meeting will be in a Government building, please provide valid photo identification for check-in. Please allow 15 minutes before the meeting for the check-in process. If you plan to attend or have questions concerning the meeting, please contact Mr. Flora at (202) 461-6525 or by email at charles.flora@va.gov.

Dated: April 16, 2015.
Rebecca Schiller,
Advisory Committee Management Office.

[FR Doc. 2015-09183 Filed 4-20-15; 8:45 am]

BILLING CODE 8320-01-P